DEPARTMENT OF ENERGY

Federal Energy Regulatory Commission

Combined Notice of Filings #1

Take notice that the Commission received the following electric corporate filings:

Docket Numbers: EC21-8-000.

Applicants: Harts Mill Solar, LLC, Harts Mill TE Holdings LLC.

Description: Application for Authorization Under Section 203 of the Federal Power Act, et al. of Harts Mill Solar, LLC, et al.

Filed Date: 10/15/20.

Accession Number: 20201015-5168.

Comments Due: 5 p.m. ET 11/5/20.

Take notice that the Commission received the following exempt wholesale generator filings:

Docket Numbers: EG21-7-000.

Applicants: Henrietta D Energy Storage LLC.

Description: Self-Certification of Henrietta D Energy Storage LLC.

Filed Date: 10/16/20.

Accession Number: 20201016-5069.

Comments Due: 5 p.m. ET 11/6/20.

Docket Numbers: EG21-8-000.

Applicants: Orange County Energy Storage 2 LLC.

Description: Self-Certification of Orange County Energy Storage 2 LLC.

Filed Date: 10/16/20.

Accession Number: 20201016-5075.

Comments Due: 5 p.m. ET 11/6/20.

Docket Numbers: EG21-9-000.

Applicants: Orange County Energy Storage 3 LLC.

Description: Notice of Self-Certification of Exempt Wholesale Generator Status of Orange County Energy Storage 3 LLC.

Filed Date: 10/16/20.

Accession Number: 20201016-5106.

Comments Due: 5 p.m. ET 11/6/20.

Take notice that the Commission received the following electric rate filings:

Docket Numbers: ER12-162-029; ER13-1266-031; ER10-2984-048; ER11-2044-035; ER15-2211-028.

Applicants: Bishop Hill Energy II LLC, CalEnergy, LLC, Merrill Lynch Commodities, Inc., MidAmerican Energy Company, MidAmerican Energy Services, LLC.

Description: Notice of Non-Material Change in Status of Bishop Hill Energy II LLC, et al.

Filed Date: 10/15/20.

Accession Number: 20201015-5175.

Comments Due: 5 p.m. ET 11/5/20.

Docket Numbers: ER15-2013-012; ER12-2510-011; ER15-2014-008; ER10-2435-019; ER10-2442-016; ER12-2512-011; ER19-481-004; ER15-2018-007; ER18-2252-003; ER15-2022-007; ER10-2444-018; ER10-2446-014; ER15-2026-007; ER10-2449-016; ER19-2250-004.

Applicants: Talen Energy Marketing, LLC, Brandon Shores LLC, Brunner Island, LLC, Camden Plant Holding, L.L.C., Elmwood Park Power, LLC, H.A. Wagner LLC, LMBE Project Company LLC, Martins Creek, LLC, MC Project Company LLC, Montour, LLC, Newark Bay Cogeneration Partnership, L.P, Pedricktown Cogeneration Company LP, Susquehanna Nuclear, LLC, York Generation Company LLC, TrailStone Energy Marketing, LLC.

Description: Notification of Change in Status of the Indicated MBR Sellers.

Filed Date: 10/15/20.

Accession Number: 20201015-5161.

Comments Due: 5 p.m. ET 11/5/20.

Docket Numbers: ER19-1934-004.

Applicants: Tucson Electric Power Company.

Description: Compliance filing: Order No. 845 Compliance Filing to be effective 5/22/2019.

Filed Date: 10/16/20.

Accession Number: 20201016-5087.

Comments Due: 5 p.m. ET 11/6/20.

Docket Numbers: ER19-1935-005.

Applicants: UNS Electric, Inc.

Description: Compliance filing: Order No. 845 Compliance Filing to be effective 5/22/2019.

Filed Date: 10/16/20.

Accession Number: 20201016-5088.

Comments Due: 5 p.m. ET 11/6/20.

Docket Numbers: ER20-1912-001.

Applicants: Blooming Grove Wind Energy Center LLC.

Description: Notice of Change in Facts of Blooming Grove Wind Energy Center LLC.

Filed Date: 10/15/20.

Accession Number: 20201015-5166.

Comments Due: 5 p.m. ET 11/5/20.

Docket Numbers: ER20-2721-001.

Applicants: Smoky Mountain Transmission LLC.

Description: Tariff Amendment: Request to Hold Proceeding in Abeyance to be effective 12/31/9998.

Filed Date: 10/16/20.

Accession Number: 20201016-5051.

Comments Due: 5 p.m. ET 11/6/20.

Docket Numbers: ER21-23-001.

Applicants: Tri-State Generation and Transmission Association, Inc.

Description: Tariff Amendment: Amendment Filing to Correct Service Agreement Number to be effective 9/28/2020.

Filed Date: 10/16/20.

Accession Number: 20201016-5081.

Comments Due: 5 p.m. ET 11/6/20.

Docket Numbers: ER21-41-000.

Applicants: La Joya Wind, LLC.

Description: Supplement to October 7, 2020 La Joya Wind, LLC tariff filing.

Filed Date: 10/14/20.

Accession Number: 20201014-5155.

Comments Due: 5 p.m. ET 10/26/20.

Docket Numbers: ER21-119-000.

Applicants: PJM Interconnection, L.L.C., Trans-Allegheny Interstate Line Company, Monongahela Power Company, The Potomac Edison Company, West Penn Power Company.

Description: § 205(d) Rate Filing: MAIT submits Revised Interconnection Agreement, SA No. 2149 to be effective 12/14/2020.

Filed Date: 10/15/20.

Accession Number: 20201015-5137.

Comments Due: 5 p.m. ET 11/5/20.

Docket Numbers: ER21-120-000.

Applicants: Niagara Mohawk Power Corporation, New York Independent System Operator, Inc.

Description: § 205(d) Rate Filing: Amended Engineering & Procurement Agreement: Niagara Mohawk and New York Transco to be effective 9/17/2020.

Filed Date: 10/16/20.

Accession Number: 20201016-5001.

Comments Due: 5 p.m. ET 11/6/20.

Docket Numbers: ER21-121-000.

Applicants: PJM Interconnection, L.L.C.

Description: § 205(d) Rate Filing: Original WMPA, Service Agreement No. 5825; Queue No. AF2-401 to be effective 9/16/2020.

Filed Date: 10/16/20.

Accession Number: 20201016-5003.

Comments Due: 5 p.m. ET 11/6/20.

Docket Numbers: ER21-122-000.

Applicants: PJM Interconnection, L.L.C.

Description: § 205(d) Rate Filing: Original WMPA, Service Agreement No. 5807; Queue No. AF2-400 to be effective 9/16/2020.

Filed Date: 10/16/20.

Accession Number: 20201016-5004.

Comments Due: 5 p.m. ET 11/6/20.

Docket Numbers: ER21-123-000.

Applicants: Idaho Power Company.

Description: Compliance filing: Order 864 Compliance Filing to be effective N/A.

Filed Date: 10/16/20.

Accession Number: 20201016-5045.

Comments Due: 5 p.m. ET 11/6/20.

Docket Numbers: ER21-124-000.

Applicants: Southwest Power Pool, Inc.

Description: § 205(d) Rate Filing: 3285R4 AEP Energy Partners, Inc. NITSA and NOA to be effective 10/1/2020.

Filed Date: 10/16/20.

Accession Number: 20201016-5048.

Comments Due: 5 p.m. ET 11/6/20.

Docket Numbers: ER21-125-000.

Applicants: Tampa Electric Company.

Description: Compliance filing: OATT Order No. 864 Compliance Filing to be effective 1/27/2020.

Filed Date: 10/16/20.

Accession Number: 20201016-5062.

Comments Due: 5 p.m. ET 11/6/20.

Docket Numbers: ER21-126-000.

Applicants: Arizona Public Service Company.

Description: § 205(d) Rate Filing: Rate Schedule No. 33 to be effective 12/31/2020.

Filed Date: 10/16/20.

Accession Number: 20201016-5082.

Comments Due: 5 p.m. ET 11/6/20.

Docket Numbers: ER21-127-000.

Applicants: PJM Interconnection, L.L.C.

Description: § 205(d) Rate Filing: Revisions to OA, Schedule 12 to reflect termination of Energia membership to be effective 12/16/2020.

Filed Date: 10/16/20.

Accession Number: 20201016-5090.

Comments Due: 5 p.m. ET 11/6/20.

Docket Numbers: ER21-128-000.

Applicants: Rancho Seco Solar II LLC.

Description: § 205(d) Rate Filing: Revised Market-Based Rate Tariff Filing to be effective 12/16/2020.

Filed Date: 10/16/20.

Accession Number: 20201016-5095.

Comments Due: 5 p.m. ET 11/6/20.

Docket Numbers: ER21-129-000.

Applicants: System Energy Resources, Inc.

Description: § 205(d) Rate Filing: SERI UPSA Excess ADIT Credit to be effective 10/17/2020.

Filed Date: 10/16/20.

Accession Number: 20201016-5097.

Comments Due: 5 p.m. ET 11/6/20.

Take notice that the Commission received the following electric securities filings:

Docket Numbers: ES21-5-000.

Applicants: Evergy Kansas Central, Inc., Evergy Kansas South, Inc., Evergy Metro, Inc., Evergy Missouri West, Inc.

Description: Joint Application Under Section 204 of the Federal Power Act for Authorization to Issue Securities of Evergy Kansas Central, Inc., et al.

Filed Date: 10/15/20.

Accession Number: 20201015-5167.

Comments Due: 5 p.m. ET 11/5/20.

Take notice that the Commission received the following qualifying facility filings:

Docket Numbers: QF21-28-000.

Applicants: San Bernardino Fuel Cell, LLC.

Description: Form 556 of San Bernardino Fuel Cell, LLC.

Filed Date: 10/13/20.

Accession Number: 20201013-5411.

Comments Due: Non-Applicable.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2020.
Nathaniel J. Davis, Sr.,
Deputy Secretary.

[FR Doc. 2020-23402 Filed 10-21-20; 8:45 am]

BILLING CODE 6717-01-P